DEPARTMENT OF THE INTERIOR

Bureau of Land Management

[WO-320-1990-PB-24 1A; OMB Control Number 1004-0025]

Information Collection Submitted to the Office of Management and Budget Under the Paperwork Reduction Act

The Bureau of Land Management (BLM) has sent a request to extend the current approved collection to the Office of Management and Budget (OMB) under the provisions of the Paperwork Reduction Act (44 U.S.C. 3501 et seq.). On July 26, 2002, the BLM published a notice in the Federal Register (67 FR 48938) requesting comment on this information collection. The comment period ended on September 24, 2002. BLM received no comments. You may obtain copies of the collection of information and related forms and explanatory material by contacting the BLM Information Collection Clearance Officer at the telephone number listed below.

The OMB must respond to this request within 60 days but may respond after 30 days. For maximum consideration your comments and suggestions on the requirement should be directed to the Office of Management and Budget, Interior Department Desk Officer (1004-0025), at OMB-OIRA via facsimile to (202) 395-5806 or e-mail to Ruth Solomon@omb.eop.gov. Please provide a copy of our comments to the Bureau Information Collection Clearance Officer (WO-630), Bureau of Land Management, Eastern States Office, 7450 Boston Blvd., Springfield, Virginia 22153.

Nature of Comments: We specifically request your comments on the following:

1. Whether the collection of information is necessary for the proper functioning of the agency, including whether the information will have practical utility;

2. The accuracy of our estimates of the information collection burden, including the validity of the methodology and assumptions we use;

3. Ways to enhance the quality, utility and clarity on the information collected; and

4. Ways to minimize the information collection burden on those who are to respond, including the use of appropriate automated, electronic, mechanical, or other forms of information technology.

Title: Mineral Patent Applications (43 CFR part 3860) and Adverse Claims, Protests, and Conflicts (43 CFR part 3870).

OMB Control Number: 1004-0025.

Bureau Form Numbers: 3860-2 and 3860-5.

Abstract: We use the information to determine the right to a mineral patent and to disputes concerning the rights to the property in order to issue the patent to the rightful claimant.

Frequency: One.

Description of Respondents: Holders of unpatented mining claims and mill sites located on public lands, reserved mineral lands of the United States, National Forests, and National Parks.

Estimated Completion Time: 2 hours (contests and protests each).

Annual Responses: 31.

Application Fee Per Response: $10.

Annual Burden Hours: 62.

Bureau Clearance Officer: Michael Schwartz, (202) 452-5033.

Dated: July 8, 2003.
Michael H. Schwartz,
Bureau of Land Management, Information Collection Clearance Officer.

[FR Doc. 03-18848 Filed 7-23-03; 8:45 am]

BILLING CODE 4310-84-M